DEPARTMENT OF HOMELAND SECURITY

Federal Emergency Management Agency

[Docket ID: FEMA-2020-0015; OMB No. 1660-0110]

Agency Information Collection Activities: Proposed Collection; Comment Request; FEMA Preparedness Grants: Nonprofit Security Grant Program

AGENCY: Federal Emergency Management Agency, DHS.

ACTION: 60-Day notice and request for comments.

SUMMARY: The Federal Emergency Management Agency, as part of its continuing effort to reduce paperwork and respondent burden, invites the general public to take this opportunity to comment on a revision of a currently approved information collection. In accordance with the Paperwork Reduction Act of 1995, this notice seeks comments concerning the Nonprofit Security Grant Program (NSGP). The NSGP provides funding support for security related enhancements to nonprofit organizations that are at high risk of a terrorist attack.

DATES: Comments must be submitted on or before July 14, 2020.

ADDRESSES: To avoid duplicate submissions to the docket, please use only one of the following means to submit comments:

(1) Online. Submit comments at www.regulations.gov under Docket ID FEMA-2020-0015. Follow the instructions for submitting comments.

(2) Mail. Submit written comments to Docket Manager, Office of Chief Counsel, DHS/FEMA, 500 C Street SW, 8NE, Washington, DC 20472-3100.

All submissions received must include the agency name and Docket ID. Regardless of the method used for submitting comments or material, all submissions will be posted, without change, to the Federal eRulemaking Portal at http://www.regulations.gov, and will include any personal information you provide. Therefore, submitting this information makes it public. You may wish to read the Privacy and Security Notice that is available via a link on the homepage of www.regulations.gov.

FOR FURTHER INFORMATION CONTACT: Samrawit Aragie, Program Analyst, FEMA Grant Programs Directorate, Preparedness Grants Program, 202-786-9846, Samrawit.aragie@fema.dhs.gov. You may contact the Information Management Division for copies of the proposed collection of information at email address: FEMA-Information-Collections-Management@fema.dhs.gov.

SUPPLEMENTARY INFORMATION: The collection of information for the Nonprofit Security Grant Program is mandated by Sections 2003, 2004, and 2009 of the Homeland Security Act of 2002 (codified as amended at 6 U.S.C. 604, 605, 609a) and various appropriations acts. The information collected (1) is required to assess the need and potential impact of NSGP funding requests from nonprofit organizations; and (2) allows for a fair method to evaluate requests and determine which applications will be selected for funding.

Collection of Information

Title: FEMA Preparedness Grants: Nonprofit Security Grant Program (NSGP).

Type of Information Collection: Revision of a currently approved information collection.

OMB Number: 1660-0110.

FEMA Forms: FEMA Form 089-24 NSGP Prioritization of Investment Justifications; FEMA Form 089-25 NSGP Investment Justification.

Abstract: The Nonprofit Security Grant Program provides funding support for security related enhancements to nonprofit organizations that are at high risk of a terrorist attack. The program seeks to integrate the preparedness activities of nonprofit organizations that are at high risk of a terrorist attack with broader state and local preparedness efforts.

Affected Public: State or Tribal governments, and not-for-profit institutions.

Estimated Number of Respondents: 2,086.

Estimated Number of Responses: 2,086.

Estimated Total Annual Burden Hours: 8,960.

Estimated Total Annual Respondent Cost: $338,766.

Estimated Respondents' Operation and Maintenance Costs: $0.

Estimated Respondents' Capital and Start-Up Costs: $0.

Estimated Total Annual Cost to the Federal Government: $339,751.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Maile Arthur,
Deputy Director, Information Management Division, Office of the Chief Administrative Officer, Mission Support, Federal Emergency Management Agency, Department of Homeland Security.

[FR Doc. 2020-10380 Filed 5-14-20; 8:45 am]

BILLING CODE 9111-46-P